DEPARTMENT OF AGRICULTURE

Food and Nutrition Service

Agency Information Collection Activities: Proposed Collection; Comment Request—State Administrative Expense Fund

AGENCY: Food and Nutrition Service, USDA.

ACTION: Notice.

SUMMARY: In accordance with the Paperwork Reduction Act of 1995, this Notice announces the Food and Nutrition Service's (FNS) intention to request Office of Management and Budget (OMB) review of the information collection related to State administrative expense funds, including the adjustments to be made as a result of the final rule, School Nutrition Programs: Nondiscretionary Technical Amendments published on September 20, 1999.

DATES: To be assured of consideration, comments must be received by April 23, 2002.

ADDRESSES: Send comments and requests for copies of this information collection to: Mr. Terry Hallberg, Chief, Program Analysis and Monitoring Branch, Child Nutrition Division, Food and Nutrition Service, U.S. Department of Agriculture, 3101 Park Center Drive, Room 636, Alexandria, Virginia 22302.

Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

All responses to this Notice will be summarized and included in the request for OMB approval, and will become a matter of public record.

FOR FURTHER INFORMATION CONTACT: Mr. Terry Hallberg at (703) 305-2590.

SUPPLEMENTARY INFORMATION: Title: 7 CFR Part 235, State Administrative Expense Funds Regulations.

OMB Number: 0584-0067.

Expiration Date: September 30, 2002.

Type of Request: Extension of a currently approved collection.

Abstract: Section 7 of the Child Nutrition Act of 1966 (Pub. L. 89-642), 42 U.S.C. 1776, authorizes the Department to provide Federal funds to State agencies (SAs) for administering the Child Nutrition Programs. Part 235 of 7 CFR, State Administrative Expense Funds (SAE), sets forth procedures and recordkeeping requirements for use by SAs in reporting and maintaining records of their needs and uses of SAE funds. The final rule, School Nutrition Programs: Nondiscretionary Technical Amendments (64 FR 50735, September 20, 1999) amended 7 CFR 235.5(c) by removing the requirement that State agencies submit annual SAE plans and now requires States to only submit substantive changes to approved plans. Therefore, the burden hours associated with the SAE Plan have been reduced. This final rule also eliminated the 10 percent transfer limitation of funds between programs and there is no limitation to the amount a state agency can transfer between programs. Also, the agreement, FCS-74, Federal-State Agreement, is contained in the information collections for 7 CFR part 235.

Estimate of Burden: The reporting burden for this collection of information is estimated at 2052 burden hours. The recordkeeping burden is estimated at 12,922 burden hours, which is comprised of the maintenance of records to document usage of SAE funds.

Estimated Number of Respondents: 88 respondents.

Average Number of Responses per Respondent: 131 responses.

Estimated Total Annual Burden on Respondents: 14,974 burden hours.

Dated: February 14, 2002.
George A. Braley,
Acting Administrator, Food and Nutrition Service.

[FR Doc. 02-4241 Filed 2-21-02; 8:45 am]

BILLING CODE 3410-30-P